DEPARTMENT OF COMMERCE

Foreign-Trade Zones Board

[Docket 29-2012]

Foreign-Trade Zone 155—Calhoun and Victoria Counties, TX; Application for Reorganization Under Alternative Site Framework

An application has been submitted to the Foreign-Trade Zones (FTZ) Board (the Board) by the Calhoun-Victoria Foreign Trade Zone, Inc., grantee of FTZ 155, requesting authority to reorganize the zone under the alternative site framework (ASF) adopted by the Board (74 FR 1170-1173, 01/12/09 (correction 74 FR 3987, 01/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on April 9, 2012.

FTZ 155 was approved by the Board on October 24, 1988 (Board Order 398, 55 FR 44510, 11/3/88), and expanded on June 18, 2008 (Board Order 1565, 73 FR 36038-36039, 6/25/08). The current zone project includes the following sites: Site 1 (97 acres)—Calhoun County Navigation District's marine terminal, 2313 FM 1593 South, Point Comfort; Site 2 (494.3 acres)—Alcoa World Alumina, Highway 35, Point Comfort; Site 3 (120 acres)—West Calhoun Navigation District, Highway 185, Long Mott; Site 4 (135 acres)—Victoria Regional Airport, Business Highway 59, Victoria; Site 5 (29 acres)—CMC Safety Steel Service, 255 Skytop Road, Victoria; Site 6 (359 acres)—Victoria Navigation District, 1934 FM 1432, Victoria; and, Site 7 (11.46 acres)—Tres Palacios, Farm Road 1468, Markham.

The grantee's proposed service area under the ASF would be Calhoun, Victoria and Matagorda Counties, Texas. If approved, the grantee would be able to serve sites throughout the service area based on companies' needs for FTZ designation. The proposed service area is within the Port Lavaca-Point Comfort Customs and Border Protection port of entry.

The applicant is requesting authority to reorganize its zone project to include existing Sites 1, 3, 4, 5 and 6 as “magnet” sites and Sites 2 and 7 as “usage-driven” sites. No new magnet or usage-driven sites are being requested at this time. Because the ASF only pertains to establishing or reorganizing a general-purpose zone, the application would have no impact on FTZ 155's authorized subzone.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is June 15, 2012. Rebuttal comments in response to material submitted during the foregoing period may be submitted during the subsequent 15-day period to July 2, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Camille Evans at Camille.Evans@trade.gov or (202) 482-2350.

Dated: April 9, 2012.
Andrew McGilvray,
Executive Secretary.

[FR Doc. 2012-9057 Filed 4-13-12; 8:45 am]

BILLING CODE P